DEPARTMENT OF HOUSING AND URBAN DEVELOPMENT

[Docket No. FR-4878-N-02]

Final Guidance to Federal Financial Assistance Recipients Regarding Title VI Prohibition Against National Origin Discrimination Affecting Limited English Proficient Persons

Correction

In notice document 07-217 beginning on page 2732 in the issue of Monday, January 22, 2007 make the following correction:

On page 2747, in the second column, in the sixth line from the bottom “JUH” should read “HUD”.

[FR Doc. C7-217 Filed 2-13-07; 8:45 am]

BILLING CODE 1505-01-D